DEPARTMENT OF ENERGY

Federal Energy Regulatory Commission

Combined Notice of Filings #1

Take notice that the Commission received the following electric corporate filings:

Docket Numbers: EC14-28-000.

Applicants: Black Bear Hydro Partners, LLC, Black Bear Development Holdings, LLC, Black Bear SO, LLC, Black Bear Holding LLC.

Description: Joint Application for Authorization Under Section 203 of Black Bear Hydro Partners, LLC, et al.

Filed Date: 11/14/13.

Accession Number: 20131114-5188.

Comments Due: 5 p.m. ET 1/13/14.

Docket Numbers: EC14-29-000.

Applicants: Condon Wind Power, LLC, Lake Benton Power Partners LLC, Storm Lake Power Partners II, LLC, ALLETE Clean Energy, Inc.

Description: Application of Condon Wind Power, LLC, et al. for Authorization Under Section 203 of the Federal Power Act and Request for Expedited Action.

Filed Date: 11/15/13.

Accession Number: 20131115-5148.

Comments Due: 5 p.m. ET 12/6/13.

Take notice that the Commission received the following electric rate filings:

Docket Numbers: ER10-1246-005; ER10-1982-006; ER10-1253-005; ER10-1252-005; ER13-764-005; ER12-2498-005; ER12-2499-005.

Applicants: Consolidated Edison Energy, Inc., Consolidated Edison Company of New York, Inc., Consolidated Edison Solutions Inc, Orange and Rockland Utilities, Inc., CED White River Solar, LLC, Alpaugh 50, LLC, Alpaugh North, LLC.

Description: Notice of non-material change status of Consolidated Edison Energy, Inc., et al.

Filed Date: 11/15/13.

Accession Number: 20131115-5127.

Comments Due: 5 p.m. ET 12/6/13.

Docket Numbers: ER13-193-003.

Applicants: ISO New England Inc., New England Power Pool Participants Committee.

Description: Amend to ISO Tariff and TOA in Compliance with Order to be effective 12/31/2050.

Filed Date: 11/15/13.

Accession Number: 20131115-5075.

Comments Due: 5 p.m. ET 12/16/13.

Docket Numbers: ER13-196-002.

Applicants: ISO New England Inc., Bangor Hydro Electric Company, Central Maine Power Company, Vermont Electric Power Company, Inc., Vermont Transco, LLC.

Description: Amendments to ISO-NE TOA in Compliance with Order to be effective 12/31/2050.

Filed Date: 11/15/13.

Accession Number: 20131115-5093.

Comments Due: 5 p.m. ET 12/16/13.

Docket Numbers: ER13-232-001.

Applicants: AEP Generation Resources Inc.

Description: Ohio Power Supply Agreement Amendment to be effective 1/1/2014.

Filed Date: 11/15/13.

Accession Number: 20131115-5118.

Comments Due: 5 p.m. ET 12/6/13.

Docket Numbers: ER13-1210-002.

Applicants: Westar Generating, Inc.

Description: Response to Deficiency Filing, Purchase Power Agreement to be effective 7/1/2013.

Filed Date: 11/15/13.

Accession Number: 20131115-5000.

Comments Due: 5 p.m. ET 12/6/13.

Docket Numbers: ER13-2229-001.

Applicants: Arizona Public Service Company.

Description: OATT Order No. 764 Compliance Filing to be effective 11/1/2013.

Filed Date: 11/15/13.

Accession Number: 20131115-5063.

Comments Due: 5 p.m. ET 12/6/13.

Docket Numbers: ER14-120-001.

Applicants: BTG Pactual Commodities (US) LLC.

Description: BTG Pactual Commodities (US) LLC Supplement to MBR Application to be effective 11/18/2013.

Filed Date: 11/14/13.

Accession Number: 20131114-5147.

Comments Due: 5 p.m. ET 11/21/13.

Docket Numbers: ER14-406-000.

Applicants: California Independent System Operator Corporation.

Description: 2013-11-14_CDWRAmendedPLA to be effective 11/15/2013.

Filed Date: 11/14/13.

Accession Number: 20131114-5164.

Comments Due: 5 p.m. ET 12/5/13.

Docket Numbers: ER14-407-000.

Applicants: Capacity Markets Partners, LLC.

Description: Application for Market-Based Rate Tariff, Blanket Authority and Waivers to be effective 12/1/2013.

Filed Date: 11/15/13.

Accession Number: 20131115-5042.

Comments Due: 5 p.m. ET 12/6/13.

Docket Numbers: ER14-408-000.

Applicants: Tampa Electric Company.

Description: OATT Order No. 784 Compliance Filing to be effective 12/27/2013.

Filed Date: 11/15/13.

Accession Number: 20131115-5090.

Comments Due: 5 p.m. ET 12/6/13.

Docket Numbers: ER14-409-000.

Applicants: Grain Belt Express Clean Line LLC.

Description: Application for Authorization to Sell Transmission Service Rights at Negotiated Rates, Request for Approval of Capacity Allocation Process, and Request for Waivers of Grain Belt Express Clean Line LLC.

Filed Date: 11/15/13.

Accession Number: 20131115-5096.

Comments Due: 5 p.m. ET 12/6/13.

Docket Numbers: ER14-410-000.

Applicants: Tampa Electric Company.

Description: Revision of Agreement for Interchange Service (Schedule J under RS 21) to be effective 11/1/2013.

Filed Date: 11/15/13.

Accession Number: 20131115-5099.

Comments Due: 5 p.m. ET 12/6/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2013.
Nathaniel J. Davis, Sr.,
Deputy Secretary.

[FR Doc. 2013-28079 Filed 11-22-13; 8:45 am]

BILLING CODE 6717-01-P